SMALL BUSINESS ADMINISTRATION

[License No. 05/05-0313]

Surrender of License of Small Business Investment Company; Monroe Capital Partners Fund II, L.P.

Pursuant to the authority granted to the United States Small Business Administration under the Small Business Investment Act of 1958, as amended, under section 309 of the Act and Code of Federal Regulations under 13 CFR 107.1900 to function as a small business investment company under the Small Business Investment Company License No. 05/05-0313 issued to Monroe Capital Partners Fund II, L.P., said license is hereby declared null and void.

Bailey Devries,
Associate Administrator, Office of Investment and Innovation, United States Small Business Administration.

[FR Doc. 2023-23348 Filed 10-20-23; 8:45 am]

BILLING CODE P